DEPARTMENT OF AGRICULTURE

Forest Service

Notice of Resource Advisory Committee Meeting

AGENCY: Crook County Resource Advisory Committee, Sundance, WY, USDA, Forest Service.

ACTION: Notice meeting.

SUMMARY: Pursuant to the authorities in the Federal Advisory Committee Act (Public Law 92-463) and under the Secure Rural Schools and Community Self-Determination Act of 2000 (Public Law 106-393) the Black Hills National Forests' Crook County Resource Advisory Committee will meet Monday, September 15, 2003 in Sundance, Wyoming for a business meeting. The meeting is open to the public.

SUPPLEMENTARY INFORMATION: The business meeting on September 15, begins at 6:30 p.m., at U.S. Forest Service, Bearlodge Ranger District office, 121 South 21st Street, Sundance, Wyoming. Agenda topics will include: Project proposals for fiscal year 2004, updates on previously funded projects and nominations and leadership elections for the coming year. A public forum will begin at 8:30 p.m. (MT).

FOR FURTHER INFORMATION CONTACT: Steve Kozel, Bearlodge District Ranger and Designated Federal Officer, at (307) 283-1361.

Dated: August 12, 2003.
Steve Kozel,
Bearlodge District Ranger.

[FR Doc. 03-20990 Filed 8-15-03; 8:45 am]

BILLING CODE 3410-11-M